FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Pioneer Shipping Logistics Inc., 99-32 66th Road, Suite 7X, Rego Park, NY 11374. Officers: David Xiao Wu Lou, Vice President (Qualifying Individual), Xiao-Zhi Lou, President.

St. Lucia Express Freight Services, Inc., 9515 NW 13th Street, Doral, FL 33172. Officers: Darryl S. Ramroop, Treasurer (Qualifying Individual), Tammy S. Kelly, President.

Multi-Trans Shipping Agency, Inc., 17890 Castleton Street, Suite 350, City of Industry, CA 91748. Officers: Calvin Kan Cheng, President (Qualifying Individual), Eric Chan, Vice President.

Transair Express Inc., 1425 Avondal Road, Hillsborough, CA 94010. Officer: Chia-Chi Chiu, President (Qualifying Individual).

Ri-Time Logistic Corp., 14632 E. Nelson Avenue, Suite E, City of Industry, CA 91744. Officer: Biyu Gao, President (Qualifying Individual).

Gammacor, Inc., 594 Industry Drive, Bldg. 6, Tukwila, WA 98188. Officers: Joseph Paul DeRoche, Vice President, Jorge Z. Gacila, Asst. Secretary (Qualifying Individuals), Cecilia Almonidovar, President.

Non-Vessel-Operating Common Carrier and Ocean Freight Forwarder Transportation Intermediary Applicants

Hughes Int'l L.L.C., 8 Mockingbird Road, Edison, NJ 08820. Officer: Yiduo Hu, Owner (Qualifying Individual).

American Trans Solutions, LLC, 2315 N.W. 107th Avenue, Suite 1M34, Doral, FL 33172. Officers: Gloria M. Gutierrez, Logistics Coordinator (Qualifying Individual), Hector Eduardo Velez, Chief Executive.

Summer Breeze Transport, Inc., 1106 A1A North, Suite 100-A, Ponte Vedra Beach, FL 32082. Officers: Tom W. Brown, President (Qualifying Individual), Keith J. Phillips, Vice President.

Freight Services of West Coast Corp. dba Omega Logistics, 8622 Bellanca Avenue, Ste. #H, Los Angeles, CA 90045. Officers: Jesse Camarena, Director (Qualifying Individual), Soci Mayor, CEO.

Ocean Freight Forwarder—Ocean Transportation Intermediary Applicant

B.R. Anderson & Co., 1011 S.W. Klickitat Way, Suite 203, Seattle, WA 98134. Officers: Stuart A. Harris, Co-President (Qualifying Individual), Ronald A. Portscheller, Co-President.

Dated: June 3, 2005.
Bryant L. VanBrakle,
Secretary.

[FR Doc. 05-11404 Filed 6-7-05; 8:45 am]

BILLING CODE 6730-01-P